ENVIRONMENTAL PROTECTION AGENCY

[EPA-HQ-OPP-2023-0474; FRL-11384-03-OCSPP]

Endocrine Disruptor Screening Program (EDSP); Near-Term Strategies for Implementation; Notice of Availability and Request for Comment; Extension of Comment Period; Correction

AGENCY: Environmental Protection Agency (EPA).

ACTION: Notice; correction.

SUMMARY: In the Federal Register of December 14, 2023, EPA announced the extension of the comment period established in a document that published in the Federal Register of October 27, 2023 that announced the availability of and solicited comment on near-term strategies to help the Agency meet its obligations and commitments under the Federal Food, Drug, and Cosmetic Act (FFDCA), which requires, that EPA screen for and protect against endocrine disrupting effects in humans. This document corrects the extended comment period date that published in the Federal Register of December 14, 2023, which inadvertently included the incorrect year.

DATES: December 26, 2023.

ADDRESSES: Submit your comments, identified by docket identification (ID) number EPA-HQ-OPP-2023-0474, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Catherine Aubee, Endocrine Disruptor Screening Program (7505T), Office of Pesticide Programs, Environmental Protection Agency, 1200 Pennsylvania Ave. NW, Washington, DC 20460-0001; main telephone number: (202) 566-1030; email address: pesticidequestions@epa.gov.

SUPPLEMENTARY INFORMATION: To give stakeholders additional time to review materials and prepare comments, EPA extended the comment period established in the Federal Register document of October 27, 2023, at 88 FR 73841 (FRL-11384-01-OCSPP) for 60 days, from December 26, 2023. However, the extended comment period date established in the Federal Register document of December 14, 2023, at 88 FR 86644 (FRL-11384-02-OCSPP), was incorrectly stated as February 26, 2023. This notice corrects the comment period date to February 26, 2024. More information on the action can be found in the Federal Register of October 27, 2023.

Correction

In the Federal Register of December 14, 2023, in FR Doc. 2023-27405, on page 86644, in the first column, correct the Dates caption to read:

DATES: The comment period for the document published in the Federal Register of October 27, 2023, at 88 FR 73841 (FRL-11384-01-OCSPP) is extended. Comments must be received on or before February 26, 2024.

Authority: 7 U.S.C. 136 et seq. and 21 U.S.C. 346a.

Dated: December 20, 2023.
Angela Hofmann,
Director, Regulatory Support Branch, Mission Support Division, Office of Program Support, Office of Chemical Safety and Pollution Prevention.

[FR Doc. 2023-28510 Filed 12-22-23; 8:45 am]

BILLING CODE 6560-50-P